NUCLEAR REGULATORY COMMISSION

[NRC-2021-0116]

Report to Congress on Abnormal Occurrences; Fiscal Year 2020 Dissemination of Information

AGENCY: Nuclear Regulatory Commission.

ACTION: NUREG; issuance.

SUMMARY: The U.S. Nuclear Regulatory Commission (NRC) is issuing NUREG-0090, Volume 43, “Report to Congress on Abnormal Occurrences: Fiscal Year 2020.” The report describes those events that the NRC or an Agreement State identified as abnormal occurrences (AOs) during fiscal year (FY) 2020, based on the criteria defined by the Commission. The report describes seven events at Agreement State-licensed facilities and two events at NRC-licensed facilities.

DATES: NUREG-0090, Volume 43, is available June 9, 2021.

ADDRESSES: Please refer to Docket ID NRC-2021-0116 when contacting the NRC about the availability of information regarding this document. You may obtain publicly available information related to this document using any of the following methods:

• Federal Rulemaking Website: Go to https://www.regulations.gov and search for Docket ID NRC-2021-0116. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

FOR FURTHER INFORMATION CONTACT: Minh-Thuy Nguyen, Office of Nuclear Regulatory Research, U.S. Nuclear Regulatory Commission, Washington, DC 20555-0001; telephone: 301-415-5163, email: Minh-Thuy.Nguyen@nrc.gov.

SUPPLEMENTARY INFORMATION: Section 208 of the Energy Reorganization Act of 1974, as amended (Pub. L. 93-438), defines an “abnormal occurrence” as an unscheduled incident or event that the NRC determines to be significant from the standpoint of public health or safety. The FY 2020 AO report, NUREG-0090, Volume 43, “Report to Congress on Abnormal Occurrences: Fiscal Year 2020” (ADAMS Accession No. ML21152A287), describes those events that the NRC identified as AOs during FY 2020.

This report describes seven events in Agreement States and two events involving NRC licensees that were identified as AOs during FY2020. Eight AOs were medical events as defined in part 35 of title 10 of the Code of Federal Regulations, “Medical Use of Byproduct Material.” There was one AO that was a human exposure event. The NRC did not identify any events at commercial nuclear power plants as AOs.

The NRC identified four events during FY 2020 that met the guidelines for inclusion in Appendix B, “Other Events of Interest.” The first of these events was a human exposure event with possible internal contamination. The second event involved a gauge failure that resulted in unintended exposure to seven individuals, three of whom were classified as radiation workers who received occupational radiation exposure below regulatory limits. The third event was a stuck source event that resulted in an exposure above the regulatory annual limit to an individual involved in recovering the source. The fourth event concerned an extended loss of offsite power event at a commercial nuclear power plant. No events met the guidelines for inclusion in Appendix C, “Updates of Previously Reported Abnormal Occurrences.”

Agreement States are the 39 U.S. States that currently have entered into formal agreements with the NRC pursuant to Section 274 of the Atomic Energy Act of 1954, as amended (AEA), to regulate certain quantities of AEA-licensed material at facilities located within their borders.

The Federal Reports Elimination and Sunset Act of 1995 (Pub. L. 104-68) requires that AOs be reported to Congress annually. The full report, NUREG-0090, Volume 43, “Report to Congress on Abnormal Occurrences: Fiscal Year 2020,” is also available electronically at the NRC's website at https://www.nrc.gov/reading-rm/doc-collections/nuregs/staff/.

Dated: June 3, 2021.
For the Nuclear Regulatory Commission.
Annette Vietti-Cook,
Secretary of the Commission.

[FR Doc. 2021-12046 Filed 6-8-21; 8:45 am]

BILLING CODE 7590-01-P